DEPARTMENT OF ENERGY

Federal Energy Regulatory Commission

Combined Notice of Filings No. 2

January 18, 2011.

Take notice that the Commission has received the following Natural Gas Pipeline Rate and Refund Report filings:

Docket Numbers: RP06-298-013.

Applicants: Public Service Commission of New York v.

Description: Semi-Annual Report of Operational Sales of Gas for the period of 07/01/10-12/21/10 of National Fuel Gas Supply Corporation.

Filed Date: 01/13/2011.

Accession Number: 20110113-5071.

Comment Date: 5 p.m. Eastern Time on Tuesday, January 25, 2011.

Docket Numbers: RP10-778-002.

Applicants: Stingray Pipeline Company, L.L.C.

Description: Stingray Pipeline Company, L.L.C. submits tariff filing per 154.203: Baseline Compliance Filing to be effective 6/30/2010.

Filed Date: 01/13/2011.

Accession Number: 20110113-5111.

Comment Date: 5 p.m. Eastern Time on Tuesday, January 25, 2011.

Docket Numbers: RP11-1605-001.

Applicants: Algonquin Gas Transmission, LLC.

Description: Algonquin Gas Transmission, LLC submits tariff filing per 154.203: OFO Compliance Filing (2) to be effective 1/8/2011.

Filed Date: 01/13/2011.

Accession Number: 20110113-5123.

Comment Date: 5 p.m. Eastern Time on Tuesday, January 25, 2011.

Docket Numbers: RP10-1371-001.

Applicants: Caledonia Energy Partners, L.L.C.

Description: Caledonia Energy Partners, L.L.C. submits tariff filing per 154.203: Caledonia Energy Partners Baseline Tariff to be effective 9/30/2010.

Filed Date: 01/14/2011.

Accession Number: 20110114-5149.

Comment Date: 5 p.m. Eastern Time on Wednesday, January 26, 2011.

Docket Numbers: RP10-669-002.

Applicants: Kinder Morgan Illinois Pipeline LLC.

Description: Kinder Morgan Illinois Pipeline LLC submits tariff filing per 154.203: Order No. 714 Baseline Compliance Filing to be effective 2/14/2011.

Filed Date: 01/14/2011.

Accession Number: 20110114-5049.

Comment Date: 5 p.m. Eastern Time on Wednesday, January 26, 2011.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2011-1293 Filed 1-21-11; 8:45 am]

BILLING CODE 6717-01-P